DEPARTMENT OF LABOR

Employment and Training Administration

[TA-W-55,011]

Caspain International Group, New York, NY; Notice of Termination of Investigation

Pursuant to section 221 of the Trade Act of 1974, as amended, an investigation was initiated on June 2, 2004, in response to a petition filed on behalf of workers at Caspain International Group, New York, New York.

The petitioners have requested that the petition be withdrawn. Consequently, further investigation would serve no purpose and the investigation has been terminated.

Signed in Washington, DC, this 6th day of July, 2004.
Linda G. Poole,
Certifying Officer, Division of Trade Adjustment Assistance.

[FR Doc. 04-16421 Filed 7-19-04; 8:45 am]

BILLING CODE 4510-30-P